DEPARTMENT OF DEFENSE

Department of the Navy

[Docket ID: USN-2021-HQ-0011]

Proposed Collection; Comment Request

AGENCY: Department of the Navy, Department of Defense (DoD).

ACTION: Information collection notice.

SUMMARY: In compliance with the Paperwork Reduction Act of 1995, the United States Naval Academy (USNA) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 28, 2022.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the United States Naval Academy, 121 Blake Road, Rm. 311, Annapolis, MD 21401-1300, Shannon Campbell, 410-293-1550.

SUPPLEMENTARY INFORMATION:

Title; Associated Form; and OMB Number: Naval Academy Information Program Blue and Gold Officer Program; USNA Form 1531/1; OMB Control Number 0703-BGOA.

Needs and Uses: This information requirement is needed to determine the eligibility and leadership potential of respondents applying to represent the United States Naval Academy as volunteer Blue and Gold Officers. Prior military service, current and past military performance, and prior affiliation with the USNA has been found to be an excellent predictor of success as a Blue and Gold Officer. Without this information, the ability for the USNA to recruit qualified Blue and Gold Officers would be impacted and would negatively affect the Naval Academy's ability to recruit qualified candidates.

Affected Public: Individuals or households.

Annual Burden Hours: 83.

Number of Respondents: 250.

Responses per Respondent: 1.

Annual Responses: 250.

Average Burden per Response: 20 minutes.

Frequency: On occasion.

Dated: December 27, 2021.
Kayyonne T. Marston,
Alternate OSD Federal Register, Liaison Officer, Department of Defense.

[FR Doc. 2021-28368 Filed 12-29-21; 8:45 am]

BILLING CODE 3810-FF-P